FEDERAL COMMUNICATIONS COMMISSION

[CC Docket No. 94-102; DA #00-1875]

Phase I Enhanced 911 Implementation Issues

AGENCY: Federal Communications Commission.

ACTION: Notice.

SUMMARY: In this document the Wireless Telecommunications Bureau (Bureau) seeks comment on a request filed by the King County, Washington E-911 Program Office for assistance in resolving a conflict related to the implementation of wireless Phase I Enhanced 911 (E911) service in the State of Washington. The King County Request states that King County and several other counties in Washington State have ordered Phase I service from wireless carriers operating in the State and that the Public Safety Answering Points (PSAPs) in these counties are capable of receiving and utilizing Phase I information over their existing E911 networks. According to the request, some carriers have agreed to implement Phase I service only if King County and the several other requesting counties pay for some or all of certain network and data base components associated with the delivery of the Phase I service.

King County requests that the Bureau clarify whether the funding of certain of the network and data base components of Phase I service, and the interface of these components to the existing E911 system, are the responsibility of the wireless carriers or the PSAPs.

DATES: Submit comments on or before September 18, 2000; submit reply comments on or before October 11, 2000.

ADDRESSES: Send comments and reply comments to the Office of the Secretary, Federal Communications Commission, 445 12th Street, S.W., TW-A325, Washington, D.C. 20554.

SUPPLEMENTARY INFORMATION: The complete text of this Public Notice is available on the Commission's Internet site, at www.fcc.gov. Copies of the King County Request may be obtained from the CC Docket No. 94-102 and is also available for public inspection and copying during regular business hours in the FCC Public Reference Room, Room CY-A257, 445 12th Street, S.W., Washington, D.C. 20554. Comments may be sent as an electronic file via the Internet to http://www.fcc.gov/e-file/ecfs.html, or by e-mail to ecfs@fcc.gov.

Federal Communications Commission.
William F. Caton,
Deputy Secretary.

[FR Doc. 00-21540 Filed 8-24-00; 8:45 am]

BILLING CODE 6712-01-P